DEPARTMENT OF COMMERCE

Submission for OMB Review; Comment Request

The Department of Commerce (DoC) has submitted to the Office of Management and Budget (OMB) for clearance the following proposal for collection of information under the provisions of the Paperwork Reduction Act (44 U.S.C. Chapter 35).

Agency: Patent and Trademark Office (PTO).

Title: Public Key Infrastructure (PKI) Certificate Action Form.

Form Number: PTO-2042.

OMB Approval Number: None.

Type of Request: New collection.

Burden Hours: 5,000 hours per year.

Number of Respondents: 10,000 responses per year.

Average Hours per Response: The PTO estimates that it takes approximately 20 minutes for registered attorneys and 30 minutes for independent (Pro se) inventors to read the instructions, gather the necessary information, complete the form, read and sign the subscriber's agreement, read and sign any necessary user licenses, and submit the form and agreements to the PTO. The extra ten minutes accounts for the requirement for independent inventors to take two forms of identification to a notary and have the form notarized.

Needs and Uses: In order to access patent application information through the Patent Application Information Retrieval (PAIR) system and to take advantage of electronic filing for the patent applications, applicants will need to obtain a digital certificate. PTO Form PTO-2042 was created for this purpose. Applicants can also use this form to request revocation of a digital certificate or to initiate proceedings for key recovery. In addition to the information collected from this form, the PTO also needs to ensure that applicants understand the regulations governing the use of the digital certificate and the software which creates and validates the encryption keys that is provided to the applicant. A subscriber agreement detailing the customer's obligations is also included with the form, in addition to a user's license for the PTO-provided software that customers load onto their computers. The public uses the PKI Certificate Action form (including the subscriber's agreements and the user licenses) to apply for a digital certificate or to request that the PTO revoke the certificate or initiate key recovery procedures. The subscriber's agreement and the user's license for the Entrust software are used by the public to acknowledge acceptance of the regulations, terms, and conditions governing the digital certificates and the Entrust software. The PTO uses these forms to issue digital certificates, to forward the Entrust software to the appropriate client, and to inform the public of the limitations on their right to use the software. The PTO considers the subscriber's agreement to be a legal binding document which demonstrates that the applicant has read the regulations governing the use of the digital certificate and agrees to abide by these regulations. The PTO uses the data collected from these forms to create the unique name that is needed to create the encryption keys and to communicate with the customer regarding the granting of the certificate and the distribution of the client software.

Affected Public: Individuals or households, businesses or other for-profit, not-for-profit institutions, farms, Federal, state, local, or tribal governments.

Frequency: On occasion.

Respondent's Obligation: Required to obtain or retain benefits.

OMB Desk Officer: Peter Weiss, (202) 395-3630.

Copies of the above information collection proposal can be obtained by calling or writing Linda Engelmeier, Departmental Forms Clearance Officer, (202) 482-3272, Office of the Chief Information Officer, Department of Commerce, Room 5027, 14th and Constitution Avenue, NW, Washington, DC 20230.

Written comments and recommendations for the proposed information collection should be sent within 30 days of publication to Peter Weiss, OMB Desk Officer, Room 10236, New Executive Office Building, 725 17th Street, NW, Washington, D.C. 20503.

Dated: February 24, 2000.
Linda Engelmeier,
Departmental Forms Clearance Officer, Office of the Chief Information Officer.

[FR Doc. 00-4730 Filed 2-28-00; 8:45 am]

BILLING CODE 3510-16-P